DEPARTMENT OF THE INTERIOR

Bureau of Indian Affairs

25 CFR Chapter I

First Meeting of the Negotiated Rulemaking Committee Established Under the No Child Left Behind Act of 2001

AGENCY: Bureau of Indian Affairs, Interior.

ACTION: Announcement of negotiated rulemaking committee meeting.

SUMMARY: The Secretary of the Interior has established a Committee to develop recommendations for proposed rules for Indian education under six sections of The No Child Left Behind Act of 2001. As required by the Federal Advisory Committee Act, we are announcing the date and location of the first meeting of the Negotiated Rulemaking Committee.

DATES: The Committee's first meeting will be held from June 9 to 13, 2003, in Albuquerque, New Mexico.

ADDRESSES: The meeting will be held at the Hyatt Regency Albuquerque, 330 Tijeras Avenue NW., Albuquerque, New Mexico.

FOR FURTHER INFORMATION CONTACT: Barbara James or Shawna Smith, No Child Left Behind Negotiated Rulemaking Project Management Office, PO Box 1430, Albuquerque, NM 87103-1430; telephone (505) 248-7241; fax (505) 248-7242; e-mail bjames@bia.edu or ssmith@bia.edu. We will post additional information as it becomes available on the Office of Indian Education Programs Web site at http//www.oiep.bia.edu.

SUPPLEMENTARY INFORMATION: On May 5, 2003, we published a notice in the Federal Register (68 FR 23631) announcing our intent to form a negotiated rulemaking committee under the No Child Left Behind Act, the Negotiated Rulemaking Act of 1996, and the Federal Advisory Committee Act. The purpose of the Committee is to negotiate and reach consensus on recommendations for proposed rules for Indian education under six sections of The No Child Left Behind Act of 2001. The May 5 notice discussed the issues to be negotiated and the interest group representatives proposed as members of the committee.

The first meeting of the Committee will be held from June 9 to June 13 in Albuquerque, New Mexico. At this meeting, the Committee will address organizational issues such as facilitation, ground rules, schedules, subcommittees, and prioritizing issues. There is no requirement for advance registration for members of the public who wish to attend and observe the meeting. The need to convene the committee as soon as possible in order to meet the schedule for publication of the proposed rule requires that we publish this notice less than 15 days before the meeting date. The agenda for the meeting is as follows:

Agenda for No Child Left Behind Negotiated Rulemaking Committee Meeting

June 9-13, 2003

June 9

Opening—1:30 p.m.

Welcome and Introductions

Background information on Committee tasks

Overview of No Child Left Behind Act provisions for negotiation

June 10

Pre-negotiation workshop—8:30 a.m.

Negotiation of Committee ground rules

June 11

Public comments—8:30 a.m.

Discussion and decision making relating to process

Identification of work groups

Work group meetings

June 12

Public comments—8:30 a.m.

Work group meetings

June 13

Public comments—8:30 a.m.

Selection of Co-Chairs

Work group meetings

Selection of facilitation team

Closing—noon

Dated: May 23, 2003.
Aurene M. Martin,
Acting Assistant Secretary—Indian Affairs.

[FR Doc. 03-13485 Filed 5-23-03; 4:20 pm]

BILLING CODE 4310-02-P